NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: July 18, 2001; 1:30-4:00 p.m. (EDT).

Place: National Science Foundation, 4201 Wilson Boulevard, Room 110, Arlington, VA.

Type of Meeting: Open.

Contact Person: Louise McIntire, National Science Foundation. 4201 Wilson Boulevard, Arlington, VA 22230 (703) 292-8200.

Purpose of Meeting: Interim meeting as follow-up to the April 26-27, 2001 meeting.

Agenda

July 18, 2001—1:30-4:00 p.m.

• Follow-up discussion on administrative and management planning at NSF

• Plans for Fall 2001 meeting

• Other business

Dated: July 19, 2001.
Susanne Bolton,
Committee Management Officer.

[FR Doc. 01-15723 Filed 6-21-01; 8:45 am]

BILLING CODE 7555-01-M